DEPARTMENT OF AGRICULTURE

Forest Service

Beal Mountain Mine Montana Pollution Discharge Elimination System Permit Application for Final Treatment of Process Solutions by Land Application, Beaverhead-Deerlodge National Forest, Silver Bow County, MT

AGENCY: Forest Service, USDA, and Department of Environmental Quality.

ACTION: Notice; intent to prepare environmental impact statement.

SUMMARY: The Forest Service and Montana Department of Environmental Quality will prepare an environmental impact statement on a short term water treatment proposal submitted by HB Engineering Group, Trustee for the bankrupt Beal Mountain Mine, Inc.. The Trustee proposes to treat approximately 150,000 gallons of heap leach pad process solutions using a biological treatment plant. The proposed process would need a polishing treatment step to meet State water quality standards. A Montana Pollution Discharge Elimination System (MPDES) Permit would be needed with a groundwater mixing zone to comply with Montana's Water Quality Act. The Forest Service and the Montana Department of Environmental Quality are charged to ensure reclamation of the mine site land to a stable and usable condition is accomplished. The Forest Service decision to be made is whether to approve land application of the treated process solution and whether additional treatment beyond the biological plant is needed prior to land application. The State of Montana decision to be made is whether to issue a MPDES Permit.

DATES: Comments concerning the scope of the analysis should be received in writing by January 31, 2001.

ADDRESSES: The responsible officials are Forest Supervisor Janette Kaiser, Beaverhead-Deerlodge National Forest, Dillon, MT, and Mark A. Simonich, the Director for the Montana Department of Environmental Quality, Helena, MT. To facilitate the analysis of public comments, send written comments to Jocelyn Dodge, Butte Ranger District, 1820 Meadowlark, Butte, MT 59701. Comments may be electronically submitted to jdodge@fs.fed.us.

FOR FURTHER INFORMATION CONTACT: Jocelyn Dodge, EIS Team Leader (406) 494-0246.

SUPPLEMENTARY INFORMATION: 1. The proposal is to infiltrate the treated process solution through the soil horizon for final treatment in the land application disposal (LAD) areas using a drip irrigation system. Monitoring data would be used to determine application rates, volumes, duration, monitoring and compliance points. Several systems would be operational at any time to provide maximum flexibility in land application of the treated process solution. When the proper volume has been applied, the LAD system would be relocated to another area. The agencies will decide whether to approve land application to the treated process solution and/or if additional treatment beyond the biological plant is needed for the process solution prior to land application. This document incorporates by reference the 1988 Environmental Assessment for the Beal Mountain Mine and the 1993 Environmental Impact Statement for the Beal Mountain Mine South Beal expansion.

The project area is located in Township 2N, Range 10W, Section 6.

Scoping activities to date have included a letter to citizens and groups interested in activities in the project area. No public meetings are scheduled at this time.

From the public comments received during initial scoping, the following issues have been identified: 1. Water quality; 2. Fisheries in German Gulch; and, 3. Effects on wildlife habitat and postmine safety. Alternatives will be developed based on the key issues identified after scoping.

The Beaverhead-Deerlodge National Forest and Department of Environmental Quality are joint leads in this analysis.

People may visit with agency officials at any time during the analysis and prior to the decision. Two periods are specifically designated for comments on the analysis: (1) During the scoping process, and, (2) during the draft EIS period.

During the scoping process, the Forest Service is seeking additional information and comments from individuals or organizations who may be interested in or affected by the proposed action, and Federal, State and local agencies. Written comments and suggestions on this action are invited, particularly in terms of identification of issues and alternative development.

The draft EIS should be available for review in March, 2001, and the final EIS is scheduled for completion in May, 2001.

The comment period on the draft environmental impact statement will be 45 days from the date the Environmental Protection Agency publishes the notice of availability in the Federal Register.

The Forest Service believes it is important to give reviewers notice at this early stage of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. (Reviewers may wish to refer to the Council on Environmental Quality Regulations for implementing the procedural provisions of the National Environmental Policy Act at 40 CFR 1503.3 in addressing these points.).

The responsible officials will make the decision on this proposal after considering comments and responses, environmental consequences discussed in the Final EIS, applicable laws, regulations, and policies. The Forest Service decision and reasons for the decision will be documented in a Record of Decision.

Dated: December 21, 2000.
Janette S. Kaiser,
Forest Supervisor.

[FR Doc. 01-286 Filed 1-4-01; 8:45 am]

BILLING CODE 3410-11-M